ELECTION ASSISTANCE COMMISSION

Sunshine Act Meetings

AGENCY: Election Assistance Commission.

DATE & TIME: Wednesday, January 6, 2016 at 10 a.m.

PLACE: Ritz-Carlton Pentagon City, 1250 S. Hayes Street, Arlington, VA 22202, Phone: (703) 415-5000.

STATUS: This meeting will be open to the public.

ITEMS FOR DISCUSSION AND CONSIDERATION:

• Recommendation and Discussion on VVSG1.1 Transition Date

• Recommendation of Policy Regarding Employee Participation with Outside Organizations

AGENDA: The Commission will receive a presentation on a recommendation for a Voluntary Voting System Guidelines (VVSG 1.1) transition date and consider the proposal for adoption. The Commission will receive a presentation for discussion on a draft Recommendation of Policy Regarding Employee Participation with Outside Organizations. The Commission may consider other administrative matters.

PERSON TO CONTACT FOR INFORMATION: Bryan Whitener, Telephone: (301) 563-3961.

Dated: December 29, 2015.
Bryan Whitener,
Director of Communications & Clearinghouse.

[FR Doc. 2015-33082 Filed 12-29-15; 4:15 pm]

BILLING CODE 6820-KF-P